NATIONAL SCIENCE FOUNDATION

Advisory Committee for Computer and Information Science and Engineering; Notice of Meeting

In accordance with the Federal Advisory Committee Act (Pub. L. 92-463, as amended), the National Science Foundation (NSF) announces the following meeting:

Name: Advisory Committee for Computer and Information Science and Engineering (CISE) (1115).

Date/Time: May 19, 2016; 12:30 p.m. to 5:30 p.m.; May 20, 2016; 8:30 a.m. to 12:30 p.m.

Place: National Science Foundation, 4201 Wilson Boulevard, Suite 1235, Arlington, Virginia 22230.

Type of Meeting: OPEN.

Contact Person: Brenda Williams, National Science Foundation, 4201 Wilson Boulevard, Suite 1105, Arlington, Virginia 22230; Telephone: 703/292-8900.

Purpose of Meeting: To advise NSF on the impact of its policies, programs and activities on the CISE community. To provide advice to the Assistant Director of NSF for CISE on issues related to long-range planning, and to form ad hoc subcommittees and working groups to carry out needed studies and tasks.

Agenda

• Welcome and CISE updates

• Program updates for the CISE divisions of Information and Intelligent Systems and Computing and Communication Foundations

• Activities update: Computer Science for All

• Working group breakout sessions and report outs: New Partnership Models for CISE Research; and Data Science

• Closing remarks and wrap-up

Dated: April 19, 2016.
Crystal Robinson,
Committee Management Officer.

[FR Doc. 2016-09365 Filed 4-21-16; 8:45 am]

BILLING CODE 7555-01-P